DEPARTMENT OF LABOR

Office of Workers' Compensation Programs

Agency Information Collection Activities; Comment Request; Request for Earnings Information; Correction

ACTION: Request for public comments; correction.

AGENCY: Division of Federal Employees', Longshore and Harbor Workers' Compensation, Office of Workers' Compensation Programs.

SUMMARY: The Department of Labor (DOL) is correcting a notice that appeared in the Federal Register on September 4, 2024. The information provided in the DATES section contained an error. DOL is issuing this correction to provide the correct information.

SUPPLEMENTARY INFORMATION:

Correction

In FR Doc 2024-19748 appearing at 89 FR 71935 in the Federal Register of September 4, 2024, on page 71935 in the 1st column, the following correction is made to the DATES section:

The date is corrected to read as follows:

Consideration will be given to all written comments received by November 4, 2024.

Anjanette Suggs,
Certifying Officer.

[FR Doc. 2024-23728 Filed 10-11-24; 8:45 am]

BILLING CODE 4510-CF-P